DEPARTMENT OF COMMERCE

National Oceanic and Atmospheric Administration

[I.D. 081905C]

Endangered Fish and Wildlife; Marine Mammal Protection Act; Proposed Conservation Plan for Southern Resident Killer Whales

AGENCY: National Marine Fisheries Service (NMFS), National Oceanic and Atmospheric Administration (NOAA), Commerce.

ACTION: Notice; request for comments.

SUMMARY: The Marine Mammal Protection Act (MMPA) of 1972, as amended, requires the Secretary of Commerce to prepare a conservation plan for any species or stock of marine mammals designated as depleted under the Act. The Southern Resident stock of killer whales (Orcinus orca) was designated as depleted on May 29, 2003, and a conservation plan was developed to promote the conservation and recovery of these whales. NMFS announces the availability for public review of the Proposed Conservation Plan for Southern Resident Killer Whales (Plan). NMFS is requesting review and comment on the Plan from the public and all interested parties.

DATES: Written comments and information must be received by January 3, 2006.

ADDRESSES: Copies of the Plan may be reviewed and/or copied at NMFS, Protected Resources Division, 7600 Sand Point Way NE, Seattle, WA 98115. The Plan is available on-line on the NMFS web site www.nwr.noaa.gov. Comments should be submitted by mail to Chief, Protected Resources Division, 1201 NE Lloyd Blvd., Suite 1100, Portland, OR 97232 or by e-mail to orca.plan@noaa.gov.

FOR FURTHER INFORMATION CONTACT: Mr. Garth Griffin, NOAA/NMFS, Northwest Region, (503) 231-2005.

SUPPLEMENTARY INFORMATION:

Background

Southern Resident killer whales declined by almost 20 percent from 1996-2001. The scientific information evaluated during a status review indicated that Southern Resident killer whales were depleted under the Marine Mammal Protection Act (MMPA). NMFS published a proposed rule to designate the Southern Resident stock of killer whales as depleted on January 30, 2003 (68 FR 4747). Based on the best scientific information available, consultation with the Marine Mammal Commission, and consideration of public comments, we determined that the Southern Resident stock of killer whales was depleted under the MMPA (68 FR 31980; May 29, 2003) and announced our intention to prepare a conservation plan.

Conservation plans describe actions to conserve and recover a species or stock designated as depleted under the MMPA. Conservation plans are modeled on recovery plans under the Endangered Species Act and must include (1) site-specific management actions necessary to achieve the plan's goals; (2) estimates of time required and costs to implement actions; and (3) objective, measurable criteria which, when met, would result in the species or stock no longer meeting the definition of depleted.

The Plan

We developed the Plan with input from a variety of stakeholders, including state and Federal agencies, tribes, non-profit groups, industries, the academic community, and concerned citizens. We held a series of technical workshops in 2003-2004 to receive input from participants on ideas for management actions to include in the plan; coordinated with the NMFS Northwest Fisheries Science Center research program, the State of Washington, and the Canadian Department of Fisheries and Oceans; and provided a preliminary draft document for public review in March 2005, meeting with agency representatives to discuss the preliminary plan. The Plan incorporates many of the comments received and includes a completed implementation schedule with cost estimates for conservation measures and research actions.

The Plan provides a strategy to conserve and restore Southern Resident killer whales, so that they no longer meet the definition of a depleted stock. It provides background on the natural history of killer whales, population trends and the potential threats to their viability. The Plan lays out a conservation strategy to address the potential threats based on the best available science and includes conservation goals and criteria consistent with the MMPA. The Plan is not a regulatory action, but presents guidance for use by agencies and interested parties to assist in the recovery of killer whales. The conservation measures, outlined in the plan, detail an initial approach to address each of the manageable threats. The program also links management actions to an active research program to fill data gaps, as wells as to monitoring activities for assessing effectiveness. Feedback from research and monitoring will provide the information necessary to refine ongoing actions and develop and prioritize new actions. The Plan can be amended in the future as additional information becomes available.

Conserving Southern Resident killer whales is a long-term effort and will require cooperation and coordination of Federal, state, tribal and local government agencies, and the community. WNMFS solicits public comments on the proposed conservation plan.

Dated: September 29, 2005.
P. Michael Payne,
Acting Deputy Director, Office of Protected Resources, National Marine Fisheries Service.

[FR Doc. 05-19729 Filed 9-30-05; 8:45 am]

BILLING CODE 3510-22-S